DEPARTMENT OF LABOR

Employment and Training Administration

[TA-W-65,583]

Autosplice, Inc.; San Diego, CA; Notice of Termination of Investigation

In accordance with Section 221 of the Trade Act of 1974, as amended, an investigation was initiated on March 12, 2009 in response to a petition filed by a company official on behalf of workers of Autosplice, Inc., San Diego, California.

The petitioner has requested that the petition be withdrawn. Consequently, the investigation has been terminated.

Signed in Washington, DC, this 2nd day of April, 2009.
Richard Church,
Certifying Officer, Division of Trade Adjustment Assistance.

[FR Doc. E9-10384 Filed 5-5-09; 8:45 am]

BILLING CODE 4510-FN-P